DEPARTMENT OF COMMERCE

National Oceanic and Atmospheric Administration

RIN 0648-XD739

Fisheries Off West Coast States and in the Western Pacific; Pacific Coast Groundfish Fishery; Application for an Exempted Fishing Permit (EFP)

AGENCY: National Marine Fisheries Service (NMFS), National Oceanic and Atmospheric Administration (NOAA), Commerce.

ACTION: Notice; receipt of EFP applications; request for comments.

SUMMARY: NMFS announces the receipt of an exempted fishing permit (EFP) application for 2015 and 2016 that would continue work done in 2013 and 2014, and is considering issuance of EFPs for vessels participating in the EFP fishery. The EFPs are necessary to allow activities that are otherwise prohibited by Federal regulations. The EFPs would be effective no earlier than March 18, 2015, and would expire no later than December 31, 2016, but could be terminated earlier under terms and conditions of the EFPs and other applicable laws.

DATES: Comments must be received no later than 5 p.m., local time on March 18, 2015.

ADDRESSES: You may submit comments, identified by 0648-XD739, by any one of the following methods:

• Email: EFPs.2015@noaa.gov.

• Fax: 206-526-6736, Attn: Colby Brady.

• Mail: William W. Stelle, Regional Administrator, West Coast Region, NMFS, 7600 Sand Point Way NE., Seattle, WA 98115-0070, Attn: Colby Brady.

FOR FURTHER INFORMATION CONTACT: Colby Brady (West Coast Region, NMFS), phone: 206-526-6117, fax: 206-526-6736.

SUPPLEMENTARY INFORMATION: This action is authorized by the Pacific Coast Groundfish Fishery Management Plan (FMP) and the Magnuson-Stevens Fishery Conservation and Management Act provisions at 50 CFR 600.745, which states that EFPs may be used to authorize fishing activities that would otherwise be prohibited. At the June 2014 Pacific Fishery Management Council (Council) meeting in Garden Grove, CA, the Council considered an EFP application from the San Francisco Community Fishing Association and Dan Platt. An opportunity for public testimony was provided during the Council meeting. For more details on this EFP application and to view a copy of the application, see the Council's Web site at www.pcouncil.org and browse the June 2014 Briefing Book. The Council recommended that NMFS consider issuing the following EFP, and that this EFP be issued for 2 years. The 2-year duration is intended to coincide with the 2015-2016 biennial harvest specifications and management measures process. Therefore, to reduce the administrative burden of issuing annual EFPs during the 2-year management cycle, NMFS is considering issuing the EFP described below for a 2-year period. The EFP issued for this 2-year period would expire no later than December 31, 2016, but could be terminated earlier under terms and conditions of the EFP and other applicable laws.

Commercial Yellowtail EFP

The San Francisco Community Fishing Association and Dan Platt submitted an application to continue their 2013-2014 EFP work for two more years. The primary purpose of the EFP is to test a commercial hook and line gear to target underutilized yellowtail rockfish, while keeping bycatch of overfished species low. During their work in 2013 and 2014, a total of approximately 3.6 mt (3,600 kg) of yellowtail rockfish was harvested with very little bycatch of co-occurring overfished species.

Authority: 16 U.S.C. 1801 et seq., 16 U.S.C. 773 et seq., and 16 U.S.C. 7001 et seq.

Dated: February 25, 2015.
Emily H. Menashes,
Acting Director, Office of Sustainable Fisheries, National Marine Fisheries Service.

[FR Doc. 2015-04355 Filed 3-2-15; 8:45 am]

BILLING CODE 3510-22-P